DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a proposed subsequent arrangement under the Agreement for Cooperation Between the Government of the United States of America and the Government of Japan Concerning Peaceful Uses of Nuclear Energy.

DATES: This subsequent arrangement will take effect no sooner than April 18, 2017.

FOR FURTHER INFORMATION CONTACT: Mr. Richard S. Goorevich, Office of Nonproliferation and Arms Control, National Nuclear Security Administration, Department of Energy. Telephone: 202-586-0589 or email: Richard.Goorevich@nnsa.doe.gov.

SUPPLEMENTARY INFORMATION: This proposed subsequent arrangement concerns the addition of Kazakhstan to the List of Agreed Countries pursuant to sub-paragraph (b) of paragraph 1 of Article 1 of the Implementing Agreement Between the Government of the United States of America and the Government of Japan pursuant to Article 11 of their Agreement for Cooperation Concerning Peaceful Uses of Nuclear Energy. Pursuant to Article 4 of the Agreement for Cooperation and Article 1 of the Implementing Agreement thereto, countries on the list are eligible to receive retransfers of unirradiated source material and low enriched uranium, so long as the purpose of the retransfer is not for the production of high enriched uranium. The United States has an Agreement for Cooperation in the Peaceful Uses of Nuclear Energy, under the authority of section 123 of the Atomic Energy Act of 1954, as amended, in force with Kazakhstan.

In accordance with section 131a. of the Atomic Energy Act of 1954, as amended, it has been determined that this proposed subsequent arrangement will not be inimical to the common defense and security of the United States of America.

Dated: February 6, 2017.
For the Department of Energy.
David G. Huizenga,
Acting Deputy Administrator, Defense Nuclear Nonproliferation.

[FR Doc. 2017-06498 Filed 3-31-17; 8:45 am]

BILLING CODE 6450-01-P